DEPARTMENT OF TRANSPORTATION

Surface Transportation Board

[Docket No. FD 35588]

Eastern Maine Railway Company—Acquisition and Operation Exemption—Montreal, Maine & Atlantic Railway, Ltd.

Eastern Maine Railway Company (EMR), a Class III rail carrier, has filed a verified notice of exemption under 49 CFR 1150.41 to acquire from Montreal, Maine & Atlantic Railway, Ltd. (MMA), and to operate approximately 28.75 miles of rail line between the rail line owned by the State of Maine near Madawaska, Me. to the Canadian National Railway (CN) rail line near St. Leonard, N.B. at milepost 194.1 of CN's Nappadoggin Subdivision. Specifically, the 28.75 miles of rail line consist of: (1) MMA's Madawaska Subdivision extending from milepost 260 to milepost 264.13; (2) MMA's Van Buren Subdivision extending from milepost 0.0 to milepost 23.69; and (3) an additional 0.93 miles of rail line, including the Van Buren Bridge, for connection to the CN rail line near St. Leonard, N.B.¹

¹ EMR recognizes that the Board's jurisdiction only covers the acquisition of the line to the U.S.-Canada border.

This transaction is related to a concurrently filed verified notice of exemption in Docket No. FD 35598, Eastern Maine Railway Company—Assignment of Trackage Rights Exemption—Montreal, Maine & Atlantic Railway, Ltd. and Maine Northern Railway Company, wherein EMR seeks to acquire overhead trackage rights by assignment from MMA.²

² These trackage rights would enable EMR access over the line owned by the State of Maine and extend from milepost 109 near Millinocket, Me., to milepost 260 near Madawaska, Me. MMA previously obtained these trackage rights in Montreal, Maine & Atlantic Railway, Ltd.—Trackage Rights Exemption—Maine Northern Railway Company, FD 35505 (STB served May 27, 2011).

The Maine Northern Railway Company (MNRC) currently has overhead trackage rights over the 28.75 miles of rail line owned by MMA. EMR is acquiring the line subject to these trackage rights. Therefore, MNRC's overhead trackage rights will remain unchanged by EMR's acquisition of the MMA line.³ Also, CN currently has limited trackage rights over a portion of the line,⁴ and CN's indirect subsidiary Waterloo Railway Company has a limited easement over a portion of the line.⁵ EMR is acquiring the line subject to these rights as well.

³ See Me. N. Ry.—Trackage Rights Exemption—Montreal, Me. & Atl. Ry., FD 35518 (STB served June 3, 2011).

⁴ See Canadian Natl. Ry.—Trackage Rights Exemption—Bangor and Aroostook R.R. and Van Buren Bridge Co., FD 34014 (STB served Mar. 21, 2001).

⁵ See Waterloo Ry.—Acquis. Exemption—Bangor and Aroostook R.R. and Van Buren Bridge Co., FD 34015 (STB served Mar. 21, 2001).

The transaction is expected to be consummated on or about March 19, 2012.

EMR certifies that its projected annual revenues as a result of this transaction will not result in the creation of a Class II or Class I rail carrier. Because EMR's projected annual revenues will exceed $5 million, EMR certified to the Board on January 17, 2012, that it had complied with the requirements of 49 CFR 1150.32(e) by providing notice to employees and their labor unions on the affected 28.75 miles of rail line. Under 49 CFR 1150.32(e), this exemption cannot become effective until 60 days after the date notice was provided, which would be March 17, 2012.

If the verified notice contains false or misleading information, the exemption is void ab initio. Petitions to revoke the exemption under 49 U.S.C. 10502(d) may be filed at any time. The filing of a petition to revoke will not automatically stay the effectiveness of the exemption. Petitions to stay must be filed no later than March 9, 2012 (at least 7 days before the exemption becomes effective).

An original and 10 copies of all pleadings, referring to Docket No. FD 35588, must be filed with the Surface Transportation Board, 395 E Street SW., Washington, DC 20423-0001. In addition, a copy of each pleading must be served on Karyn A. Booth, Thompson Hine LLP, Suite 800, 1920 N Street NW., Washington, DC 20036.

Board decisions and notices are available on our Web site at www.stb.dot.gov.

Decided: February 28, 2012.
By the Board, Rachel D. Campbell, Director, Office of Proceedings.
Jeffrey Herzig,
Clearance Clerk.

[FR Doc. 2012-5079 Filed 3-1-12; 8:45 am]

BILLING CODE 4915-01-P